DEPARTMENT OF HEALTH AND HUMAN SERVICES

National Institutes of Health

Proposed Collection; 60-Day Comment Request; Evaluation of Office of Acquisitions System (OASYS) and FFRDC Contract Administration System (FCAS) Vendor Portals National Cancer Institute (NCI)

AGENCY: National Institutes of Health, HHS.

ACTION: Notice.

SUMMARY: In compliance with the requirement of the Paperwork Reduction Act of 1995 to provide opportunity for public comment on proposed data collection projects, the National Cancer Institute (NCI) will publish periodic summaries of propose projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Marla Jacobson, 9609 Medical Center Drive, MSC 9742, Rockville, MD 20850 or call non-toll-free number 240-276-5267 or Email your request, including your address to: marla.jacobson@nih.gov. Formal requests for additional plans and instruments must be requested in writing.

SUPPLEMENTARY INFORMATION: Section 3506(c)(2)(A) of the Paperwork Reduction Act of 1995 requires: Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimizes the burden of the collection of information on those who are to respond, including the use of appropriate automated, electronic, mechanical, or other technological collection techniques or other forms of information technology.

Proposed Collection Title: Evaluation of Office of Acquisitions System (OASYS) and FFRDC Contract Administration System (FCAS) Vendor Portals National Cancer Institute (NCI), 0925-NEW, Expiration Date XX/XX/XXXX, National Cancer Institute (NCI), National Institutes of Health (NIH).

Need and Use of Information Collection: The National Cancer Institute (NCI) Office of Acquisitions (OA), located within the Office of the Director (OD) in the Office of Management (OM) at the National Cancer Institute (NCI), awards and administers contracts and simplified acquisitions in support of the Institute's mission to prevent, diagnose and treat cancer. During the acquisition process, the OA ensures that customer service is paramount, and communications are open and continuous. Currently requests and correspondence are sent to and received from vendors through email with the exception of the FFRDC Contractor who submits through the FCAS Vendor Portal which is in production. To streamline processes, increase transparency and gain efficiencies, the OA developed OASYS and FCAS vendor portals to replace processes that are handled through email (future OASYS Vendor Portal Users) and were (current FCAS Vendor Portal Users) to individual OA recipients. The FCAS Vendor Portal and in the future, the OASYS Vendor Portal will serve as a one-stop shop for transmission of requests, reports, deliverables and other correspondence due on numerous research and development, in support of R&D contracts as well as those contract vehicles awarded using various Federal Acquisition Procedures including but not limited to FAR Part 8, Required Sources of Supplies and Services, FAR Part 13, Simplified Acquisition Procedures, and FAR Part 12, Acquisition of Commercial Items. These reports and deliverables cover a wide variety of topics in the areas of cancer research including prevention, detection, diagnosis, and control.

OMB approval is requested for 3 years. There are no costs to respondents other than their time. The total estimated annualized burden hours are 12,120.

Estimated Annualized Burden Hours
Form name | Type of respondent | Number of respondents | Number of responses per respondent | Average time per response (in hours) | Total annual burden hours
Registration—OASYS | Corporations | 400 | 1 | 8/60 | 53
Registration—FCAS | Corporations | 400 | 1 | 8/60 | 53
Survey—OASYS | Individuals | 120 | 1 | 6/60 | 12
Survey—FCAS | Individuals | 120 | 1 | 6/60 | 12
Data Field Information—OASYS | Individuals | 1,249 | 48 | 6/60 | 5,995
Data Field Information—FCAS | Individuals | 1,249 | 48 | 6/60 | 5,995
Totals |  | 3,538 | 120,944 |  | 12,120

Dated: May 13, 2021.
Diane Kreinbrink,
Project Clearance Liaison, National Cancer Institute, National Institutes of Health.

[FR Doc. 2021-10476 Filed 5-18-21; 8:45 am]

BILLING CODE 4140-01-P